DEPARTMENT OF THE INTERIOR

Fish and Wildlife Service

[FWS-HQ-MB-2018-N150; FF09M21200-189-FXMB12320900000; OMB Control Number 1018-0133]

Agency Information Collection Activities; Submission to the Office of Management and Budget for Review and Approval; Control and Management of Resident Canada Geese

AGENCY: Fish and Wildlife Service, Interior.

ACTION: Notice of information collection; request for comment.

SUMMARY: In accordance with the Paperwork Reduction Act of 1995, we, the U.S. Fish and Wildlife Service, are proposing to renew an information collection.

DATES: Interested persons are invited to submit comments on or before January 25, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0133 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 6, 2018 (83 FR 14879). We received one comment in which the commenter objected to the collection of this information, but did not specifically address the information collection requirements. We did not make changes to our requirements as a result of that comment.

We are again soliciting comments on the proposed ICR that is described below. We are especially interested in public comment addressing the following issues: (1) is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703 et seq.) prohibits the take, possession, import, export, transport, sale, purchase, or bartering of migratory birds or their parts, except as permitted under the terms of a valid permit or as permitted by regulations. In 2006, we issued regulations establishing two depredation orders and three control orders that allow State and Tribal wildlife agencies, private landowners, and airports to conduct resident Canada goose population management, including the take of birds, nest and eggs. We monitor the data collected for activities under these orders and may rescind an order if monitoring indicates that activities are inconsistent with conservation of Canada geese.

Control order for airports. Our regulations at 50 CFR 21.49 allow managers at commercial, public, and private airports and military airfields and their employees or agents to implement management of resident Canada geese to resolve or prevent threats to public safety. An airport must be part of the National Plan of Integrated Airport Systems and have received Federal grant-in-aid assistance or be a military airfield under the jurisdiction, custody, or control of the Secretary of a military department. Each facility exercising the privileges of the order must submit an annual report with the date, numbers, and locations of birds, nests, and eggs taken.

Depredation order for nests and eggs. Our regulations at 50 CFR 21.50 allow private landowners and managers of public lands to destroy resident Canada goose nests and eggs on property under their jurisdiction, provided they register annually on our website at https://epermits.fws.gov/eRCGR. Registrants must provide basic information, such as name, address, phone number, and email, and identify where the control work will occur and who will conduct it. Registrants must return to the website to report the number of nests with eggs they destroyed.

Depredation order for agricultural facilities. Our regulations at 50 CFR 21.51 allow States and Tribes, via their wildlife agencies, to implement programs to allow landowners, operators, and tenants actively engaged in commercial agriculture to conduct damage management control when geese are committing depredations, or to resolve or prevent other injury to agricultural interests. State and Tribal wildlife agencies in the Atlantic, Central, and Mississippi Flyway portions of 41 States may implement the provisions of the order. Each implementing agricultural producer must maintain a log of the date and number of birds taken under this authorization. Each State and Tribe exercising the privileges of the order must submit an annual report of the numbers of birds, nests, and eggs taken, and the county or counties where take occurred.

Public health control order. Our regulations at 50 CFR 21.52 authorize States and Tribes of the lower 48 States to conduct (via the State or Tribal wildlife agency) resident Canada goose control and management activities when the geese pose a direct threat to human health. States and Tribes operating under this order must submit an annual report summarizing activities, including the numbers of birds taken and the county where take occurred.

Population control. Our regulations at 50 CFR 21.61 establish a managed take program to reduce and stabilize resident Canada goose populations when traditional and otherwise authorized management measures are not successful or feasible. A State or Tribal wildlife agency in the Atlantic, Mississippi, or Central Flyway may request approval for this population control program. If approved, the State or Tribe may use hunters to harvest resident Canada geese during the month of August. Requests for approval must include a discussion of the State's or Tribe's efforts to address its injurious situations using other methods, or a discussion of the reasons why the methods are not feasible. If the Service Director approves a request, the State or Tribe must (1) keep annual records of activities carried out under the authority of the program, and (2) provide an annual summary, including number of individuals participating in the program and the number of resident Canada geese shot. Additionally, participating States and Tribes must monitor the spring breeding population by providing an annual estimate of the breeding population and distribution of resident Canada geese in their State or on their Tribal lands.

Our regulations at 50 CFR 21.49, 21.50, 21.51, and 21.52 require that persons or entities operating under the depredation and control orders must immediately report the take of any species protected under the Endangered Species Act (ESA). This information ensures that the incidental take limits authorized under section 7 of the ESA are not exceeded.

Title of Collection: Control and Management of Resident Canada Geese, 50 CFR 20.21, 21.49, 21.50, 21.51, 21.52, and 21.61.

OMB Control Number: 1018-0133.

Form Number: None.

Type of Review: Extension of a currently approved collection.

Respondents/Affected Public: State fish and wildlife agencies, Tribes, and local governments; airports; landowners; and farms.

Total Estimated Number of Annual Respondents: 8,698.

Total Estimated Number of Annual Responses: 8,698.

Estimated Completion Time per Response: Varies from 15 minutes to 8 hours, depending on activity.

Total Estimated Number of Annual Burden Hours: 3,360.

Respondent's Obligation: Required to obtain or retain a benefit.

Frequency of Collection: Annually.

Total Estimated Annual Nonhour Burden Cost: None.

Regulation/activity | Annual number of responses | Completion time per response (hours) | Total annual burden hours *
21.49—Airport Control Order (Annual Report)
Private Sector | 25 | 1.5 | 38
Government | 25 | 1.5 | 38
21.50—Nest and Egg Depredation Order (Initial Registration)
Individuals | 126 | 0.5 | 63
Private Sector | 674 | 0.5 | 337
Government | 200 | 0.5 | 100
21.50—Nest and Egg Depredation Order (Renew Registration)
Individuals | 374 | 0.25 | 94
Private Sector | 2,026 | 0.25 | 507
Government | 600 | 0.25 | 150
21.50—Nest and Egg Depredation Order (Annual Report)
Individuals | 500 | 0.25 | 125
Private Sector | 2,700 | 0.25 | 675
Government | 800 | 0.25 | 200
21.51—Agricultural Depredation Order (Recordkeeping)
Private Sector | 600 | 0.5 | 300
21.51—Agricultural Depredation Order (Annual Report)
Government | 20 | 8 | 160
21.52—Public Health Control Order
Government | 20 | 1 | 20
21.49, 21.50, 21.51, and 21.52—Report Take of Endangered Species
Private Sector | 2 | 0.25 | 1
21.61—Population Control Approval Request (Annual Report and Recordkeeping)
Annual Report—Gov't | 3 | 12 | 36
Recordkeeping—Gov't | 12 | 36
21.61—Population Control Approval Request (Population and Distribution Estimates)
Government | 3 | 160 | 480
Totals: | 8,698 |  | 3,360
* Rounded.

An agency may not conduct or sponsor and a person is not required to respond to a collection of information unless it displays a currently valid OMB control number.

The authority for this action is the Paperwork Reduction Act of 1995 (44 U.S.C. 3501 et seq.).

Dated: December 19, 2018.
Madonna Baucum,
Information Collection Clearance Officer, U.S. Fish and Wildlife Service.

[FR Doc. 2018-27891 Filed 12-21-18; 8:45 am]

BILLING CODE 4333-15-P